DEPARTMENT OF ENERGY

Federal Energy Regulatory Commission

[Docket No. EC02-89-000, et al.]

Frederickson Power L.P., et al.; Electric Rate and Corporate Regulation Filings

July 9, 2002.

The following filings have been made with the Commission. The filings are listed in ascending order within each docket classification.

1. Frederickson Power L.P., EPCOR Power Development, Inc., EPDC Inc.

[Docket No. EC02-89-000]

Take notice that on July 1, 2002, Frederickson Power L.P. (Frederickson), and EPCOR Power Development, Inc. and EPDC Inc. (the Applicants) filed with the Federal Energy Regulatory Commission (Commission) an application pursuant to Section 203 of the Federal Power Act for authorization of the transfer of 60% of the partnership interests in Frederickson to EPCOR Power Development, Inc. and EPDC Inc. (the Acquirors) (the Transaction) so that the Acquirors will indirectly own 100% of Frederickson. Applicants request confidential treatment for the documents contained in Exhibit I.

Comment Date: July 22, 2002.

2. El Paso Merchant Energy, L.P.

[Docket No. ER95-428-024]

Take notice that on July 1, 2002, El Paso Merchant Energy, L.P., filed a triennial market analysis in support of its existing market-based rates authority.

Comment Date: July 22, 2002.

3. Phelps Dodge Energy Services, LLC

[Docket No. ER99-2923-001]

Take notice that on July 1, 2002, Phelps Dodge Energy Services, LLC tendered for filing an updated market analysis and report of changes in status in compliance with the Federal Energy Regulatory Commission's (Commission) Order, issued July 1, 2002, in Green Power Partners I, LLC.

Comment Date: July 22, 2002.

4. Midwest Independent Transmission System Operator Inc.

[Docket No. ER02-108-007]

Take notice that on July 1, 2002, the Midwest Independent Transmission System Operator, Inc. submitted its compliance filing pursuant to the Federal Energy Regulatory Commission's (Commission) May 31, 2002 Order On Compliance Filing, Midwest Independent Transmission System Operator, Inc., in which the Commission directed the Midwest ISO to renegotiate and file a revised Retention Agreement for Market Monitoring Services with Potomac Economics, Ltd.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: July 22, 2002.

5. PJM Interconnection, L.L.C.

[Docket No. ER02-1326-001]

Take notice that on July 1, 2002, PJM Interconnection, L.L.C. (PJM), in compliance with the Federal Energy Regulatory Commission's Commission's May 31, 2002 “Order Accepting Tariff Sheets As Modified”, PJM Interconnection, L.L.C. (PJM) submitted a compliance filing in this docket revising the PJM Open Access Tariff and Amended And Restated Operating Agreement of PJM Interconnection, L.L.C. to incorporate certain changes to its Economic Load Response Program.

Consistent with the May 31 Order, PJM requests an effective date of June 1, 2002 for the revisions. Copies of this filing have been served on all persons on the service list in Docket No. ER02-1326-000, all PJM members, and the state electric utility commissions in the PJM region.

Comment Date: July 22, 2002.

6. Midwest Independent System Operator, Inc. Southwest Power Pool, Inc.

[Docket No. ER02-1420-003]

Take notice that on July 1, 2002, Southwestern Public Service Company (Southwestern) submitted a compliance filing to the Commission's “Order Conditionally Accepting Proposed Tariff Revisions and Revised Agreement and Confirming Regional Transmission Organization Status” (Order) dated May 31, 2002 in the above-captioned docket.

Southwestern indicates a copy of the filing has been served upon the State Commissions of Kansas, New Mexico, Oklahoma and Texas, and on the customers taking service under the Southwestern portion of the Xcel Energy Joint Open Access Transmission Tariff.

Comment Date: July 22, 2002.

7. Midwest Independent Transmission System Operator, Inc.,

[Docket No. ER02-1420-003]

Take notice that on July 1, 2002, Oklahoma Gas and Electric Company filed to comply with the Federal Energy Regulatory Commission's (Commission) May 31, 2002 Order in the above-captioned proceedings.

The Company states that a copy of the filing has been served on all parties to this proceeding, and on the Arkansas Public Service Commission and the Oklahoma Corporation Commission.

Comment Date: July 22, 2002.

8. Midwest Independent Transmission System Operator, Inc.

[Docket No. ER02-1420-003]

Take notice that on July 1, 2002, pursuant to the Federal Energy Regulatory Commission's (Commission) May 31, 2002 Order Conditionally Accepting Proposed Tariff Revisions and Revised Agreement and Confirming Regional Transmission Organization Status, East Texas Electric Cooperative, Inc., Northeast Texas Electric Cooperative, Inc., and Tex-La Electric Cooperative of Texas, Inc., submitted a compliance filing detailing their plans for RTO participation.

Comment Date: July 22, 2002.

9. Entergy Gulf States, Inc.

[Docket No. ER02-1472-002]

Take notice that on July 1, 2002, Entergy Services, Inc., on behalf of Entergy Gulf States, Inc., tendered for filing with the Federal Energy Regulatory Commission (Commission), a compliance Amended and Restated Interconnection and Operating Agreement with Cottonwood Energy Company LP in response to the Commission's May 31, 2002, order in Entergy Gulf States, Inc.

Comment Date: July 22, 2002.

10. New England Power Company

[Docket No. ER02-1482-001]

Take notice that on July 1, 2002, New England Power Company (NEP) submitted for filing an amendment to its First Revised Service Agreement No. 178 for service under NEP's Open Access Transmission Tariff, FERC Electric Tariff, Second Revised Volume No. 9 between NEP and Middleborough Gas & Electric Department (Middleborough).

A copy of this filing has been served upon the appropriate state agencies, Middleborough and each person designated on the official service list for this proceeding.

Comment Date: July 22, 2002.

11. Southern Company Services, Inc.

[Docket No. ER02-2211-000]

Take notice that on July 1, 2002, Southern Company Services, Inc., as agent for Southern Power Company (Southern Power), tendered for filing the Requirements Service Agreement between Southern Power and Irwin Electric Membership Corporation (Irwin EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Irwin EMC commencing on June 1, 2002.

Comment Date: July 22, 2002.

12. Southern Company Services, Inc.

[Docket No. ER02-2212-000]

Take notice that on July 1, 2002, Southern Company Services, Inc., as agent for Southern Power Company (Southern Power), tendered for filing the Requirements Service Agreement between Southern Power and Middle Georgia Electric Membership Corporation (Middle Georgia EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Middle Georgia EMC commencing on June 1, 2002.

Comment Date: July 22, 2002.

13. Southern Company Services, Inc.

[Docket No. ER02-2213-000]

Take notice that on July 1, 2002, Southern Company Services, Inc., as agent for Southern Power Company (Southern Power), tendered for filing the Requirements Service Agreement between Southern Power and Lamar Electric Membership Corporation (Lamar EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Lamar EMC commencing on June 1, 2002.

Comment Date: July 22, 2002.

14. Southern Company Services, Inc.

[Docket No. ER02-2214-000]

Take notice that on July 1, 2002, Southern Company Services, Inc., as agent for Southern Power Company (Southern Power), tendered for filing the Requirements Service Agreement between Southern Power and Oconee Electric Membership Corporation (Oconee EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Oconee EMC commencing on June 1, 2002.

Comment Date: July 22, 2002.

15. Southern Company Services, Inc.

[Docket No. ER02-2215-000]

Take notice that on July 1, 2002, Southern Company Services, Inc., as agent for Southern Power Company (Southern Power), tendered for filing the Requirements Service Agreement between Southern Power and Tri-County Electric Membership Corporation (Tri-County EMC) dated as of February 28, 2002 (the Service Agreement), pursuant to the Commission's authorization for Southern Power to sell power at market rates under the Market-Based Rate Tariff, FERC Electric Tariff, First Revised Volume No. 4 (Supersedes Original Volume No. 4). The Service Agreement provides the general terms and conditions for capacity and associated energy sales from Southern Power to Tri-County EMC commencing on June 1, 2002.

Comment Date: July 22, 2002.

16. Southern Company Services, Inc.

[Docket No. ER02-2216-000]

Take notice that on July 1, 2002, Southern Company Services, Inc. (SCS), acting on behalf of Alabama Power Company, Georgia Power Company, Gulf Power Company, Mississippi Power Company, and Savannah Electric and Power Company (collectively Southern Companies), filed an amendment to the Open Access Transmission Tariff of Southern Companies (FERC Electric Tariff, Fourth Revised Volume No. 5) (Tariff).

Specifically, Southern Companies propose to amend their Tariff so that they may offer, on a first-come, first-served basis to all Transmission Customers, Recallable Long-Term Firm Point-To-Point Transmission Service under the Tariff. Southern Companies will negotiate and execute with Eligible Transmission Customers Recallable Long-Term Firm Point-To-Point Transmission Service Agreements, the terms of which will specify the reserved capacity subject to recall by Southern Companies, the point of delivery, the point of receipt, the price structure, the length of the recall notice period, and the length of time in which the customer will have to respond to the recall notice. Southern Companies will post offerings of Recallable Long-Term Firm Point-To-Point Transmission Service on their OASIS, will display the confirmed reservations for such capacity, and will indicate the capacity that is subject to recall.

Comment Date: July 22, 2002.

17. Southern Company Services, Inc.

[Docket No. ER02-2217-000]

Take notice that on July 1, 2002, Southern Company Services, Inc. (SCS), acting on behalf of Alabama Power Company, Georgia Power Company, Gulf Power Company, Mississippi Power Company, and Savannah Electric and Power Company (collectively Southern Companies), filed eight transmission service agreements under the Open Access Transmission Tariff of Southern Companies (FERC Electric Tariff, Fourth Revised Volume No. 5) (Tariff). Specifically, these agreements are as follows: (1) Firm point-to-point transmission service agreement with the City of Tallahassee, Florida (regarding OASIS Request No. 327402 (Service Agreement No. 453); (2) firm point-to-point transmission service agreement with Cargill-Alliant (regarding OASIS Request No. 334204) (Service Agreement No. 454); (3) firm point-to-point transmission service agreement with PSEG Energy Resources & Trade LLC (Service Agreement No. 455); (4) non-firm point-to-point transmission service agreement with PSEG Energy Resources & Trade LLC (Service Agreement No. 456); (5) firm point-to-point transmission service agreement with Northern States Power d.b.a. NSP Energy Marketing (First Revised Service Agreement No. 246); (6) non-firm point-to-point transmission service agreement with Northern States Power d.b.a. NSP Energy Marketing (First Revised Service Agreement No. 247); (7) firm point-to-point transmission service agreement with El Paso Merchant Energy, LP (First Revised Service Agreement No. 234); and (8) non-firm point-to-point transmission service agreement with El Paso Merchant Energy, LP (First Revised Service Agreement No. 58).

Comment Date: July 22, 2002.

18. Southern Company Services, Inc.

[Docket No. ER02-2219-000]

Take notice that on July 1, 2002, Southern Company Services, Inc. (SCS), acting on behalf of Alabama Power Company, Georgia Power Company, Gulf Power Company, Mississippi Power Company, and Savannah Electric and Power Company (collectively, Southern Companies), filed an unexecuted transmission service agreement under the Open Access Transmission Tariff of Southern Companies (FERC Electric Tariff, Fourth Revised Volume No. 5) (Tariff). Specifically, Southern Companies filed an unexecuted rollover agreement for long-term firm point-to-point transmission service (First Revised Service Agreement No. 387 under the Tariff) with Dynegy Power Marketing, Inc.

Comment Date: July 22, 2002.

19. Southern Company Services, Inc.

[Docket No. ER02-2220-000]

Take notice that on July 1, 2002, Southern Company Services, Inc. (SCS), acting on behalf of Georgia Power Company (GPC) and Savannah Electric and Power Company (Savannah), filed with the Federal Energy Regulatory Commission (Commission) a Letter Agreement between Southern Power Company, GPC and Savannah that authorizes Georgia Power and Savannah to commence, and Southern Power to pay for costs associated with activities to interconnect Southern Power's generating facility in Effingham County, Georgia.

Comment Date: July 22, 2002.

20. Central Maine Power Company

[Docket No. ER02-2221-000]

Take notice that on July 1, 2002, Central Maine Power Company (CMP) tendered for filing, in accordance with Section 1.18 of the Settlement Agreement approved in Docket Nos. ER00-26-000, et al., an informational filing containing the data used to update the formula rates in CMP's Open Access Transmission Tariff. The charges associated with the updated data took effect June 1, 2002. Copies of this filing were served on Commission Staff and the Maine Public Utilities Commission.

Comment Date: July 22, 2002.

21. Southwest Power Pool, Inc.

[Docket No. ER02-2222-000]

Take notice that on July 1, 2002, Southwest Power Pool, Inc. (SPP) submitted for filing seven unexecuted service agreements for Firm Point-to-Point Transmission Service with Aquila Merchant Services, Inc. (Transmission Customer).

SPP seeks an effective date of June 1, 2002 for these service agreements. The Transmission Customer was served with a copy of this filing.

Comment Date: July 22, 2002.

22. Southwest Power Pool, Inc.

[Docket No. ER02-2223-000]

Take notice that on July 1, 2002, Southwest Power Pool, Inc. (SPP) submitted for filing an unexecuted service agreement for Firm Point-to-Point Transmission Service with Exelon Generation Company (Transmission Customer).

SPP seeks an effective date of June 1, 2002 for this service agreement. The Transmission Customer was served with a copy of this filing.

Comment Date: July 22, 2002.

23. Southwest Power Pool, Inc.

[Docket No. ER02-2224-000]

Take notice that on July 1, 2002, Southwest Power Pool, Inc. (SPP) submitted for filing two unexecuted service agreements for Firm Point-to-Point Transmission Service with Tex-La Electric Cooperative of Texas, Inc. (Transmission Customer).

SPP seeks an effective date of June 1, 2002 for this service agreement. The Transmission Customer was served with a copy of this filing.

Comment Date: July 22, 2002.

24. Southwest Power Pool, Inc.

[Docket No. ER02-2225-000]

Take notice that on July 1, 2002, Southwest Power Pool, Inc. (SPP) submitted for filing two unexecuted service agreements for Firm Point-to-Point Transmission Service with Tenaska Power Services Co. (Transmission Customer).

SPP seeks an effective date of June 1, 2002 for these service agreements. The Transmission Customer was served with a copy of this filing.

Comment Date: July 22, 2002.

25. Southwest Power Pool, Inc.

[Docket No. ER02-2226-000]

Take notice that on July 1, 2002, Southwest Power Pool, Inc. (SPP) submitted for filing an unexecuted service agreement for Firm Point-to-Point Transmission Service with Reliant Energy Services, Inc. (Transmission Customer).

SPP seeks an effective date of June 1, 2002 for this service agreement. The Transmission Customer was served with a copy of this filing.

Comment Date: July 22, 2002.

26. Creed Energy Facility, LLC

[Docket No. ER02-2227-000]

Take notice that on July 1, 2002, Creed Energy Facility, LLC (Creed) tendered for filing, under section 205 of the Federal Power Act, a request for authorization to make wholesale sales of electric energy, capacity and ancillary services at market-based rates, to reassign transmission capacity, and to resell firm transmission rights. Creed proposes to own and operate a 45 megawatt simple cycle natural gas-fired generation facility located in Solano County, California.

Comment Date: July 22, 2002.

27. Feather River Energy Center, LLC

[Docket No. ER02-2228-000]

Take notice that on July 1, 2002, Feather River Energy Center, LLC (Feather River) tendered for filing, under section 205 of the Federal Power Act, a request for authorization to make wholesale sales of electric energy, capacity and ancillary services at market-based rates, to reassign transmission capacity, and to resell firm transmission rights. Feather River proposes to own and operate a 45 megawatt simple cycle natural gas-fired generation facility located in Sutter County, California.

Comment Date: July 22, 2002.

28. Goose Haven Energy Center, LLC

[Docket No. ER02-2229-000]

Take notice that on July 1, 2002, Goose Haven Energy Center, LLC (Goose Haven) tendered for filing, under section 205 of the Federal Power Act, a request for authorization to make wholesale sales of electric energy, capacity and ancillary services at market-based rates, to reassign transmission capacity, and to resell firm transmission rights. Goose Haven proposes to own and operate a 45 megawatt simple cycle natural gas-fired generation facility located in Solano County, California.

Comment Date: July 22, 2002.

29. Lambie Energy Center, LLC

[Docket No. ER02-2230-000]

Take notice that on July 1, 2002, Lambie Energy Center, LLC (Lambie) tendered for filing, under section 205 of the Federal Power Act, a request for authorization to make wholesale sales of electric energy, capacity and ancillary services at market-based rates, to reassign transmission capacity, and to resell firm transmission rights. Lambie proposes to own and operate a 45 megawatt simple cycle natural gas-fired generation facility located in Solano County, California.

Comment Date: July 22, 2002.

30. Pajaro Energy Center, LLC

[Docket No. ER02-2231-000]

Take notice that on July 1, 2002, Pajaro Energy Center, LLC (Pajaro) tendered for filing, under section 205 of the Federal Power Act, a request for authorization to make wholesale sales of electric energy, capacity and ancillary services at market-based rates, to reassign transmission capacity, and to resell firm transmission rights. Pajaro proposes to own and operate a 45 megawatt simple cycle natural gas-fired generation facility located in Monterey County, California.

Comment Date: July 22, 2002.

31. Wolfskill Energy Center, LLC

[Docket No. ER02-2232-000]

Take notice that on July 1, 2002, Wolfskill Energy Center, LLC (Wolfskill) tendered for filing, under section 205 of the Federal Power Act, a request for authorization to make wholesale sales of electric energy, capacity and ancillary services at market-based rates, to reassign transmission capacity, and to resell firm transmission rights. Wolfskill proposes to own and operate a 45 megawatt simple cycle natural gas-fired generation facility located in Solano County, California.

Comment Date: July 22, 2002.

32. California Power Exchange Corporation

[Docket No. ER02-2234-000]

Take notice that on July 3, 2002, the California Power Exchange Corporation (CalPX) tendered for filing a proposed Rate Schedule FERC No. 1. The purpose of the rate schedule is to enable CalPX to recover from its participants its costs and expenses for winding up its business from July 1, 2002 through December 31, 2004. CalPX proposes to assess charges to its participants semi-annually based on the amount an individual participant owes CalPX or is owed by CalPX. Any funds not used at the time CalPX terminates its operations would be flowed through to participants. CalPX states that it has served copies of the filing on its participants, on the California ISO, and on the California Public Utilities Commission. CalPX proposes an effective date of September 1, 2002 for its rate schedule.

Comment Date: July 25, 2002.

33. DTE East China, LLC

[Docket No. ER02-2235-000]

Take notice that on July 1, 2002, DTE East China, LLC (DTE East China) tendered for filing a service agreement for certain “tolling” services by DTE East China to PSEG Energy Resources & Trade LLC (PSEG ERT) to be effective June 1, 2002 as Service Agreement No. 1 to DTE East China's FERC Electric Tariff, Original Volume No. 3.

A copy of this filing has been served upon PSEG ERT.

Comment Date: July 22, 2002.

34. Ameren Services Company

[Docket No. ER02-2236-000]

Take notice that on July 1, 2002, Ameren Services Company (Ameren Services) tendered for filing an unexecuted Network Operating Agreement and an unexecuted Service Agreement for Network Integration Transmission Service between Ameren Services and Southwestern Electric Cooperative, Inc. Ameren Services asserts that the purpose of the Agreements is to permit Ameren Services to provide transmission service to Southwestern Electric Cooperative, Inc. pursuant to Ameren's Open Access Tariff.

Comment Date: July 22, 2002.

35. Ameren Services Company

[Docket No. ER02-2237-000]

Take notice that on July 1, 2002, Ameren Services Company (ASC) tendered for filing an unexecuted Service Agreement for Long-Term Firm Point-to-Point Transmission Services between ASC and American Electric Power Services Corp. ASC asserts that the purpose of the Agreement is to permit ASC to provide transmission service to American Electric Power Service Corp. pursuant to Ameren's Open Access Transmission Tariff.

Comment Date: July 22, 2002.

36. Minnesota Power

[Docket No. ER02-2238-000]

Take notice that on July 1, 2002, Minnesota Power tendered for filing a Schedule 4A—Generator Imbalance Service based upon Minnesota Power's Open Access Transmission Tariff Schedule 4—Energy Imbalance and the Midwest Independent System Operator's proposed but currently suspended Schedule 4—Energy Imbalance and Inadvertent Interchange Service. An effective date of August 1, 2002 was requested for Schedule 4A.

Comment Date: July 22, 2002.

37. Maine Electric Power Company

[Docket No. ER02-2239-000]

Take notice that on July 1, 2002 , Maine Electric Power Company (MEPCO) tendered for filing a service agreement for Partial Interim Firm Point-to-Point transmission service entered into with Emera Energy Services, Inc. (Emera). Service will be provided pursuant to MEPCO's Open Access Transmission Tariff, designated rate schedule MEPCO—FERC Electric Tariff, Original Volume No. 1, as supplemented, Original Service Agreement No. 69. MEPCO requests that this agreement become effective as of June 1, 2002.

Comment Date: July 22, 2002.

38. Central Illinois Light Company

[Docket No. ER02-2240-000]

Take notice that on July 1, 2002, Central Illinois Light Company (CILCO), tendered for filing with the Federal Energy Regulatory Commission (Commission) under its Market Rate Power Sales Tariff long-term service agreement for one new customer, Sempra Energy Trading Corporation.

CILCO requested an effective date of June 1, 2002. Copies of the filing were served on the affected customer and the Illinois Commerce Commission.

Comment Date: July 22, 2002.

39. Commonwealth Edison Company

[Docket No. ER02-2241-000]

Take notice that on July 1, 2002, Commonwealth Edison Company (ComEd) submitted for filing an unexecuted Agreement for Dynamic Scheduling of Transmission Service between ComEd and Wisconsin Electric Corporation (Wisconsin Electric) under ComEd's Open Access Transmission Tariff (OATT).

ComEd seeks an effective date of June 1, 2002 for the Agreement and, accordingly, seeks waiver of the Commission's notice requirements. ComEd states that a copy of this filing has been served on Wisconsin Electric and the Illinois Commerce Commission.

Comment Date: July 22, 2002.

40. Hardee Power Partners Limited

[Docket No. ER02-2242-000]

Take notice that on July 1, 2002, Hardee Power Partners Limited (HPP) submitted an abbreviated rate filing in connection with amendments (Sixth Amendments) to two power sales agreements providing for the sale of electric capacity and associated energy to Seminole Electric Cooperative, Inc. (Seminole) and Tampa Electric Company (Tampa Electric), the rates under which were previously accepted by the Commission.

HPP requests waiver of the Commission's sixty (60) day notice requirements and an effective date of January 1, 2002. HPP has served copies of the filing on Seminole, Tampa Electric and the Florida Public Service Commission.

Comment Date: July 22, 2002.

41. Southwest Transmission Cooperative, Inc.

[Docket No. NJ02-5-000]

Take notice that on July 1, 2002, Southwest Transmission Cooperative, Inc., (SWTCO) tendered for filing with the Federal Energy Regulatory Commission (Commission), proposed changes in its Open Access Transmission Tariff.

Comment Date: July 31, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-17920 Filed 7-15-02; 8:45 am]

BILLING CODE 6717-01-P